DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of October, 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) that sales or production, or both, of the firm or sub-division have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,641; Applied Molded Products Corp., Watertown, WI

TA-W-41,490; Dispatch Printing, Inc., Erie, PA

TA-W-41,858; G and G Sewing Machine Co., Inc., Dunmore, PA

TA-W-41,971; Maryland Mold, Inc., Pittsfield, MA

TA-W-42,020; Maurer Enterprises, Inc., Grants Pass, OR

TA-W-42,052; Forem USA, a Div. Of Allen Telecom, Inc., Sparks, NV

TA-W-42,066; Leatherworks, LLC, Detroit, MI

TA-W-42,145; Acme Electronic, LLC, Cuba, NY

TA-W-41,966; Crane Resistoflex, Bay City, MI

TA-W-41,924; McDonald Woodworks, Inc., Philadelphia, MS

TA-W-41,325; Normark Corp., d/b/a Blue Fox Tackle, Cambridge, MN

In the following cases, the investigation revealed that the criteria for eligibility have not been met for the reasons specified.

Increased imports did not contribute importantly to worker separations at the firm.

TA-W-42,157; A.O. Smith, Electrical Products Co., Upper Sandusky, OH

TA-W-42,127; Sun Apparel of Texas, Inc., Product Development Div., El Paso, TX

TA-W-42,105; Hershey Foods Corp., Pennsburg, PA

TA-W-42,093; Ames True Temper, Kane, PA

TA-W-41,329; TLD Lantis Corp., A Subsidiary of Teleflex Lionel-DuPont (TLD), Salinas, CA

The workers firm does not produce an article as required for certification under section 222 of the Trade Act of 1974.

TA-W-42,131; Surgical Corp of America, Irvington, NY

TA-W-41,794; Sunbeam Products, Product Design Group, Hattiesburg, MS

TA-W-42,195; EDUSA Corp., A Subsidiary of 3M, El Paso, TX Including Temporary Workers of the Following Firms: Manpower, Inc., El Paso, TX, Randstadt, El Paso, TX and Southwest Staffing, El Paso, TX

TA-W-42,067; Huntsman Polymers Corp., Utilities Div., Odessa, TX

TA-W-41,254; Cooper Lighting, a Div. Of Cooper Industries, Elk Grove Village, IL

The investigation revealed that criteria (1) has not been met. A significant number or proportion of the workers did not become totally or partially separated from employment as required for certification.

TA-W-42,095; K.T. Mold and Manufacturing, Inc., Woodstock, IL

The investigation revealed that criteria (2) has not been met. Sales or production did not decline during the relevant period as required for certification.

TA-W-42,059; Isaac Hazan and Co, The Hazan Group, Secaucus, NJ

Affirmative Determinations for Worker Adjustment Asssistance

The following certifications have been issued; the date following the company name and location of each determination references the impact date for all workers of such determination.

TA-W-41,886; The Kelly Springfield Tire Co., Fayetteville, NC: June 20, 2001.

TA-W-42,029; Wyman Gordon Forgings, LP., Precision Castparts Corp., Houston, TX: August 14, 2001.

TA-W-41,998; Clore Automotive, LLC, Bloomington, MN: August 5, 2001.

TA-W-42,047 & A; Holloway Sportswear, Inc., Many, LA and Olla, LA: August 15, 2001.

TA-W-42,038; Corning, Inc., Telecommunications Segment, Optical Fiber Div., Concord Plant, Concord, NC: August 12, 2001.

TA-W-42,071; Marconi, Outside Plant and Power Products Div., Toccoa, GA: August 15, 2001.

TA-W-42,069; Aerus, LLC, Formerly Electrolux, LLC, Piney Flats, TN: September 3, 2001.

TA-W-41,556; Fedders Appliances, Effingham, IL: January 8, 2002.

TA-W-42,083; Bauch and Lomb, Contact Lens Div., Rochester, NY: October 24, 2002.

TA-W-42,107; Bath Unlimited, Inc., a Div. Of Masco Corp., Passaic, NJ: August 28, 2001.

TA-W-42,094; Spectrum Control, Inc., Power Technologies Group, Erie, PA: August 15, 2001.

TA-W-42,129; TJ Edwards Co., Auburn, ME: August 29, 2001.

TA-W-42,169; Alcoa, Inc., Badin Works, Badin, NC: September 6, 2001.

TA-W-42,182; American Tramways, Inc., a Div. of Doppelmayr CTEC, Inc., Watertown, NY: September 10, 2001.

TA-W-42,133; Angelica Image Apparel Div., Savannah, TN: August 26, 2001.

TA-W-41,740; Sulzer Pumps (US), Inc., Portland, OR: June 10, 2001.

TA-W-41,739; Wemco Precision Tool, Inc., Meadville, PA: June 14, 2001.

TA-W-41,598; Sonoco Products Co., Santa Maria Plant, Santa Maria, CA: May 15, 2001.

TA-W-41,502; Northrop Grumman Corp., Winchester Electronics Div., Sacramento, CA: April 23, 2001.

TA-W-41,382; Pendleton Woolen Mills, Inc., Corporate Headquarters, Portland, OR, A; Columbia Wool Scouring, Portland, OR, B; Dorr Woolen Co., Guild, NH, C; Washougal Mill, Washougal, WA, D; Pendleton Mill, Pendleton, OR, E; Bellevue Plant, Bellevue, NE, F; Nebraska City Plant, G; Menswear Distribution Center, Milwaukie, OR: April 9, 2001.

TA-W-41,189; Hitachi Electronic Devices USA, Inc., Greenville, SC: February 13, 2001.

TA-W-42,163; VF Imagewear (West), Inc., Sparta, TN: September 4, 2001.

TA-W-42,132; Fashion Star, Inc., Carrollton, GA: August 24, 2001.

TA-W-42,128; Kellwood Intimate Apparel, Crowntuft Div., Heflin, AL: August 27, 2001.

TA-W-42,126; Northern Cap Manufacturing, Minneapolis, MN: August 23, 2001.

TA-W-42,090; Ames True Temper, Plant #1, Parkersburg, WV: August 26, 2001.

TA-W-42,076; Weyerhaeuser Co., Wimer Logging Co., Albany, OR: August 27, 2001.

TA-W-42,074; Gerson and Gerson, Inc., Middlesex, NC: August 22, 2001.

TA-W-42,065; Cray, Inc., Chippewa Falls, WI: August 6, 2001.

TA-W-42,062; Sam Fashion, Inc., North Bergen, NJ: August 15, 2001.

TA-W-41,977; Helsapenn Co., Philadelphia, PA: July 26, 2001.

TA-W-41,941; Samuel-Whittar, Inc., Detroit, MI: August 12, 2001.

TA-W-41,935; Flextronics Enclosure Systems, Including Contract Workers of Accurate Personnel, Elk Grove Village, IL: July 22, 2001.

TA-W-41,767; Intermix Distributors, Inc. (d/b/a Intermix Foods), El Paso, TX: June 10, 2001.

TA-W-41,622; Permagraphics, Inc., Eugene, OR: May 28, 2001.

TA-W-41,531; Barth and Dreyfuss of California, Burbank, CA: April 19, 2001.

TA-W-41,491; Warner Manufacturing, Inc., Sacred Heart, MN: October 26, 2000.

Also, pursuant to Title V of the North American Free Trade Agreement Implementation Act (Public Law 103-182) concerning transitional adjustment assistance hereinafter called (NAFTA-TAA) and in accordance with section 250(a), Subchaper D, Chapter 2, Title II, of the Trade Act as amended, the Department of Labor presents summaries of determinations regarding eligibility to apply for NAFTA-TAA issued during the months of October, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06492; Maurer Enterprises, Inc., Grants Pass, OR

NAFTA-TAA-06498; Leatherworks, LLC, Detroit, MI

NAFTA-TAA-06277; St. Vincent de Paul Enterprises, Contract Manufacturing Div., Portland, OR

NAFTA-TAA-06413; The Kelly Springfield Tire Co., Fayetteville, NC

NAFTA-TAA-06433; G and G Sewing Machine Co., Inc., Dunmore, PA

NAFTA-TAA-04480; Applied Molded Products Corp., Watertown, WI

NAFTA-TAA-06119; American Fast Print, Spartanburg, SC

NAFTA-TAA-06139; Dispatch Printing, Inc., Erie, PA

NAFTA-TAA-06457; Clore Automotive, LLC, Bloomington, MN

NAFTA-TAA-06526; Acme Electronics, LLC, Cuba, NY

NAFTA-TAA-06530; Sun Apparel of Texas, Inc., Product Development Div., El Paso, TX

The investigation revealed that the criteria for eligibility have not been met for the reasons specified.

The investigation revealed that workers of the subject firm did not produce an article within the meaning of Section 250(a) of the Trade Act, as amended.

NAFTA-TAA-06501; Spectralink Corp., Return Material Authorization (RMA), Boulder, CO

NAFTA-TAA-06373; Oxford Automotive, Argos, IN

NAFTA-TAA-06519; Surgical Corporation of America, Irvington, NY

Affirmativae Determinations NAFTA-TAA

NAFTA-TAA-06521; Alcoa, Inc., Badin Works, Badin, NC: August 29, 2001.

NAFTA-TAA-06513; Spectrum Control, Inc., Power Technologies Group Erie, PA: August 15, 2001.

NAFTA-TAA-06504; Owens Brigam Medical, Also Known as Westmed, Inc., Injection Mold Div., Corona, CA: July 18, 2001.

NAFTA-TAA-06465; Corning, Inc., Telecommunications Segment, Optical Fiber Div., Concord Plant, Concord, NC: August 9, 2001.

NAFTA-TAA-06441; Helsapenn Co., Philadelphia, PA: July 23, 2001.

NAFTA-TAA-06304; Ericson, Inc., Base Station and Systems Development, Durham, NC: June 11, 2001.

NAFTA-TAA-06171; Northrop Grumman Corp., Winchester Electronics Div., Sacramento, CA: April 6, 2001.

NAFTA-TAA-07567 & A; Holloway Sportswear, Inc., Many, LA and Olla, LA: September 5, 2001.

NAFTA-TAA-06427; Samuel-Whittar, Inc., Detroit, MI: July 25, 2001.

NAFTA-TAA-06448; Crown Cork and Seal Co., Inc., Portland, OR: August 1, 2001.

NAFTA-TAA-06503; Fashion Star, Inc., Carrollton, GA: August 24, 2001.

NAFTA-TAA-6516; Hershey Foods Corporation, Pennsburg, PA: August 21, 2001.

NAFTA-TAA-06522; Weyerhaeuser Co., Wimer Logging Co., Albany, OR: August 27, 2001.

NAFTA-TAA-07554; VF Imagewear (West), Inc., Sparta, TN: September 4, 2001.

I hereby certify that the aforementioned determinations were issued during the months of October, 2002. Copies of these determinations are available for inspection in Room C-5311, U.S. Department of Labor, 200 Constitution Avenue, NW., Washington, DC 20210 during normal business hours or will be mailed to persons who write to the above address.

Dated: October 15, 2002.
Edward A. Tomchick,
Director, Division of Trade Adjustment Assistance.

[FR Doc. 02-28028 Filed 11-4-02; 8:45 am]

BILLING CODE 4510-30-P